DEPARTMENT OF COMMERCE

Economic Development Administration

[Docket No.: 080125084-8086-01]

Solicitation of Applications for the University Center Economic Development Program

AGENCY: Economic Development Administration (EDA), Department of Commerce.

ACTION: Notice and request for applications.

SUMMARY: EDA is soliciting competitive applications from accredited institutions of higher education and from consortia of accredited institutions of higher education for FY 2008 University Center Economic Development Program funding in the geographic areas served by its Chicago and Philadelphia regional offices. EDA's mission is to lead the federal economic development agenda by promoting innovation and competitiveness, preparing American regions for growth and success in the worldwide economy. Institutions of higher education have many assets and in partnership with EDA, they are able to establish and operate University Centers. These EDA-sponsored University Centers conduct applied research, provide technical assistance to public and private sector organizations, and conduct other activities with the goal of enhancing regional economic development by promoting a favorable business environment to attract private capital investment and higher-skill, higher-wage jobs.

DATES: The closing date and time for receipt of applications for funding under the FY 2008 University Center Economic Development Program competition is April 15, 2008 at 4 p.m. local time. The Chicago regional office will hold a pre-application teleconference on March 5, 2008 at 10 a.m. (CST). The Philadelphia regional office will hold its pre-application teleconference call on March 12, 2008 at 2 p.m. (EST). For further information and instructions regarding these teleconferences, please see the information provided below under “Teleconferences.”

Application Submission Requirements: Applicants are advised to carefully read the instructions contained in Section IV of the complete Federal Funding Opportunity (FFO) announcement for this request for applications. For a copy of the FFO announcement, please see the Web sites listed below under “Electronic Access.”

Applications may be submitted in two formats: (i) In paper format at the addresses provided below; or (ii) electronically in accordance with the procedures provided on www.grants.gov. EDA will not accept facsimile transmissions of applications. The content of the application is the same for paper submissions as it is for electronic submissions. A complete application must contain all the items listed in the Checklist of Application Materials attached as an Exhibit to the complete FFO announcement.

You may obtain paper application packages by contacting the designated point of contact listed below under “For Further Information” for the EDA regional office servicing your geographic area. Applicants applying electronically through www.grants.gov may access the application package by following the instructions provided on www.grants.gov. Additionally, the following application forms may be accessed and downloaded as follows: (i) Form ED-900A, Application for Investment Assistance, at http://www.eda.gov/InvestmentsGrants/Application.xml; (ii) Standard Forms (SF) at www.grants.gov or at http://www.eda.gov/InvestmentsGrants/Application.xml; and (iii) Department of Commerce (CD) forms at http://www.doc.gov/forms.

Paper Submissions: Applicants in Illinois, Indiana, Michigan, Minnesota, Ohio, Wisconsin, or Muscatine or Scott counties, Iowa, should submit paper submissions (via postal mail, overnight delivery or hand-delivery) to: FY 2008 University Center Program Competition, Economic Development Administration, Chicago Regional Office, 111 North Canal Street, Suite 855, Chicago, Illinois 60606-7208.

Applicants in Connecticut, Delaware, District of Columbia, Maine, Maryland, Massachusetts, New Hampshire, New Jersey, New York, Pennsylvania, Puerto Rico, Rhode Island, Vermont, Virginia, Virgin Islands or West Virginia should submit paper submissions (via postal mail, overnight delivery or hand-delivery) to: FY 2008 University Center Program Competition, Economic Development Administration, Philadelphia Regional Office, Curtis Center, Suite 140 South, 601 Walnut Street, Philadelphia, Pennsylvania 19106-3323.

Department of Commerce mail security measures may delay receipt of United States Postal Service mail for up to two weeks. Therefore, applicants who submit paper submissions are advised to use a guaranteed overnight delivery service.

Electronic Submissions: Applicants may submit applications electronically in accordance with the instructions provided at www.grants.gov. EDA strongly encourages that applicants not wait until the application closing date to begin the application process through www.grants.gov. The preferred file format for electronic attachments (e.g., the Project Narrative and exhibits to Form ED-900A) is portable document format (PDF); however, EDA will accept electronic files in Microsoft Word, WordPerfect, Lotus or Excel formats.

Applicants should access the following link for assistance in navigating www.grants.gov and for a list of useful resources: http://www.grants.gov/applicants/applicant_help.jsp. If you do not find an answer to your question under Frequently Asked Questions, try consulting the Applicant's User Guide. If you still cannot find an answer to your question, contact www.grants.gov via e-mail at support@grants.gov or telephone at 1-800-518-4726. The hours of operation for www.grants.gov are Monday-Friday, 7 a.m. to 9 p.m. (EST) (except for federal holidays).

FOR FURTHER INFORMATION CONTACT: For additional information or for a paper copy of the application package, the designated contact person in the Chicago regional office is Jack Price. Mr. Price may be reached at jprice@eda.doc.gov or at 312-353-8143, ext. 159. The designated contact person in the Philadelphia regional office is William Good. Mr. Good may be reached at wgood@eda.doc.gov or at 215-597-0405. EDA's Internet Web site at http://www.eda.gov also has additional information on EDA and its programs, including the University Center Economic Development Program.

SUPPLEMENTARY INFORMATION: Program Information: EDA began administering the University Center Economic Development Program as a competitive multi-year program as part of its FY 2004 solicitation for applications. Under this multi-year program designation, EDA held University Center Economic Development Program competitions annually in two of its six regional offices in FY 2004 through FY 2006, and will hold similar competitions in FY 2008 and FY 2009. The Austin and Denver regional offices solicited applications for the FY 2004 University Center competition, the Philadelphia and Chicago regional offices solicited applications for the FY 2005 University Center competition, and the Atlanta and Seattle regional offices solicited applications for the FY 2006 University Center competition.

Electronic Access: The complete FFO announcement for the FY 2008 University Center Economic Development Program competition is available at www.grants.gov and at http://www.eda.gov/InvestmentsGrants/FFON.xml.

Funding Availability: Funding appropriated under the FY 2008 Consolidated Appropriations Act (Pub. L. No. 110-161, 121 Stat. 1844 (2007)) is available for the economic development assistance programs authorized by PWEDA and for the Trade Adjustment Assistance for Firms Program authorized under the Trade Act of 1974, as amended (19 U.S.C. 2341-2391). Funds in the amount of $249,100,000 have been appropriated for FY 2008 and shall remain available until expended.

In all events, the funding periods and funding amounts referenced in this notice are subject to the availability of FY 2008 funds at the time of award, as well as to Department of Commerce's and EDA's priorities at the time of award. The Department of Commerce and EDA will not be held responsible for application preparation costs if the University Center Economic Development Program fails to receive funding or is cancelled because of agency priorities. Publication of this notice does not obligate the Department of Commerce or EDA to award any specific grant or cooperative agreement or to obligate all or part of available funds.

EDA expects to allocate approximately $7,202,620 to the University Center Economic Development Program and the remaining appropriated funds to EDA's Local and National Technical Assistance Programs. The amount of University Center funding available for competition in FY 2008 is expected to be approximately $1,118,370 for the Chicago regional office and approximately $1,396,760 for the Philadelphia regional office. Annual awards for the University Centers selected under the FY 2005 competition were in the $120,000 to $175,000 range for the Chicago regional office and in the $80,000 to $150,000 range for the Philadelphia regional office. These regional offices may, however, choose to fund awards under this competition outside of these ranges. The remaining FY 2008 University Center Economic Development Program funds will be used to continue support for current University Centers selected during the FY 2006 and FY 2007 competitions in EDA's other four regional offices. Subject to the availability of funding at the time of award, the funds allocated to the University Center Economic Development Program are anticipated to be available until expended.

Statutory Authority: The authority for the University Center Program is section 207 (42 U.S.C. 3147) of the Public Works and Economic Development Act of 1965, as amended (42 U.S.C. 3121 et seq.) (PWEDA). The specific authority for the University Center Economic Development Program is section 207 of PWEDA (42 U.S.C. 3147), which authorizes EDA to make grants for the establishment of University Centers. EDA's regulations at 13 CFR parts 300-302 and subpart B of 13 CFR part 306 set forth the general and specific regulatory requirements applicable to the University Center Economic Development Program. EDA's regulations are codified at 13 CFR chapter III. The regulations and PWEDA are accessible on EDA's Internet Web site at http://www.eda.gov/InvestmentsGrants/Lawsreg.xml.

Catalog of Federal Domestic Assistance (CFDA) Number: 11.303, Economic Development—Technical Assistance.

Applicant Eligibility: An accredited institution of higher education or a consortium of accredited institutions of higher education is eligible to apply for and to receive funding under the University Center Economic Development Program. See section 3(12) of PWEDA (42 U.S.C. 3122(12)) and 13 CFR 300.3. A University-affiliated research foundation also is eligible to apply for and to receive funding under the University Center Economic Development Program, provided it demonstrates (e.g., a letter or other documentation from a University President or Chancellor) that it maintains the full and integral support of the University with respect to its economic development activities. For applicants applying as a consortium, a lead agent should be identified who would have lead responsibility to EDA and to the other members of the consortium for implementing a University Center Economic Development Program award. For FY 2008, the University Center Economic Development Program competition is open to eligible applicants in the geographic areas served by EDA's Chicago and Philadelphia regional offices. The Chicago regional office serves Illinois, Indiana, Michigan, Minnesota, Ohio, Wisconsin and Muscatine and Scott counties, Iowa. The Philadelphia regional office serves Connecticut, Delaware, District of Columbia, Maine, Maryland, Massachusetts, New Hampshire, New Jersey, New York, Pennsylvania, Puerto Rico, Rhode Island, Vermont, Virginia, Virgin Islands and West Virginia.

Project Period: The Chicago and Philadelphia regional offices will provide a three-year project period for each University Center selected for funding under the FY 2008 University Center Economic Development Program competition, with the initial award being made for the first year of the project period. The selected University Centers will not have to compete for the second and third years of funding. Funding beyond the initial year is dependent upon the availability of funds and satisfactory performance, as determined by EDA and expressed in written notice. Matching share commitment percentages must remain the same for all three years of funding.

Current University Center operators in the service areas of EDA's Atlanta, Austin, Denver and Seattle regional offices will not have to compete for continuation funding in FY 2008, subject to the availability of funds and satisfactory continuing performance, as determined by EDA and expressed in a written notice. The servicing EDA regional office will contact current University Center operators regarding the procedures for applying for FY 2008 continuation funding.

Cost Sharing Requirement: Generally, the amount of the EDA grant may not exceed fifty (50) percent of the total cost of the project. Projects may receive an additional amount that shall not exceed thirty (30) percent, as determined by EDA, based on the relative needs of the region in which the project will be located. See section 204(a) of PWEDA (42 U.S.C. 3144) and 13 CFR 301.4(b)(1). The Assistant Secretary of Commerce for Economic Development has the discretion to establish a maximum EDA investment rate of up to one hundred (100) percent where the project (i) merits and is not otherwise feasible without an increase to the EDA investment rate; or (ii) will be of no or only incidental benefit to the recipient. See section 204(c)(3) of PWEDA (42 U.S.C. 3144) and 13 CFR 301.4(b)(4).

In the application review process, EDA will consider the nature of the contribution (cash or in-kind) and the amount of the matching share funds. While cash contributions are preferred, in-kind contributions, fairly evaluated by EDA, may provide the non-federal share of the total project cost. See section 204(b) of PWEDA (42 U.S.C. 3144) and Section I.B. of the FFO announcement for this request for applications. In-kind contributions, which may include assumptions of debt and contributions of space, equipment, and services, are eligible to be included as part of the non-federal share of eligible project costs if they meet applicable federal cost principles and uniform administrative requirements. Funds from other federal financial assistance awards are considered matching share funds only if authorized by statute, which may be determined by EDA's reasonable interpretation of the statute. See 13 CFR 300.3. The applicant must show that the matching share is committed to the project for the entire project period, will be available as needed and is not conditioned or encumbered in any way that precludes its use consistent with the requirements of EDA investment assistance. See 13 CFR 301.5.

Intergovernmental Review: Applications for funding under the University Center Economic Development Program are subject to the State review requirements imposed by Executive Order 12372, “Intergovernmental Review of Federal Programs.”

Evaluation and Selection Procedures: Prior to the review paneling process, EDA's Chicago and Philadelphia regional offices will undertake a technical review of each application to ensure that all required forms, signatures and documentation are present and that the application is in compliance with the requirements of this competitive solicitation. Applications failing to meet the technical requirements of this competitive solicitation will not be referred to the review panel.

Applications meeting all technical requirements will undergo a merit review by EDA's Chicago and Philadelphia regional offices. The review panel will consist of federal employees, at least three (3) of whom will be members of EDA staff from the Chicago and Philadelphia regional offices, who will evaluate and competitively rate and rank all technically-sufficient applications using the criteria provided under “Evaluation Criteria” below. The Regional Director of each regional office is the Selecting Official for the applications received from applicants located within that regional office's geographic service area. The review panel will submit to the Selecting Official a list of applicants recommended for funding.

Evaluation Criteria: The evaluation of applications will be accomplished through a review using the following criteria, listed in descending order of importance: (i) Ability to satisfy one or more of the University Center-specific investment policy guidelines; (ii) applicant's ability to successfully implement the project; (iii) feasibility of the project budget; and (iv) cost of the project to the Federal government. Each criterion is described below.

Ability to Satisfy One or More of the University Center-specific Investment Policy Guidelines. The following University Center-specific investment policy guidelines have been adapted from (i) EDA's general investment policy guidelines set forth in 13 CFR 301.8 and (ii) the specific award requirements for University Center projects listed in 13 CFR 306.5 (each sub-criterion listed below will be given equivalent weight). You must provide responses to these University Center-specific investment policy guidelines as part of the Project Narrative discussed in Section IV.B.1. of the FFO announcement.

1. Be market-based and results driven. An investment in an EDA University Center will capitalize on the university's competitive strengths and will bolster regional economic competitiveness, resulting in tangible, quantifiable improvements in regional economic health, such as increased numbers of higher-skill, higher-wage jobs, increased tax revenue or increased private sector investment.

2. Have strong organizational leadership. An investment will have strong leadership, relevant project management experience, and a significant commitment of human resources talent to ensure a high-performing University Center. Specifically for University Center investments, this includes: (a) The extent to which the proposed University Center will maximize coordination with other relevant organizations and avoid duplication of services offered by other organizations; (b) the extent to which the University Center will access, take advantage of, and be supported by the other resources present at the sponsoring institution, especially the institution's economic development activities; and (c) the degree of evidence demonstrating the support and commitment (both financial and non-financial) of the highest management levels of the proposed University Center's sponsoring institution.

3. Advance productivity, innovation and entrepreneurship. An investment in a proposed University Center will embrace the principles of entrepreneurship; enhance regional industry clusters, and leverage and link technology innovators (university research) with the private sector to create the conditions for greater productivity, innovation and higher-skill, higher-wage job creation.

4. Look beyond the immediate economic horizon, anticipate economic changes, and diversify the local and regional economy. A University Center's activities will be part of an overarching, long-term comprehensive economic development strategy that enhances a region's success in achieving a rising standard of living.

5. Demonstrate a high degree of local commitment by exhibiting:

• High levels of local government or non-profit matching funds and private sector leverage;

• Clear and unified leadership and support by local elected officials; and

• Strong cooperation between the business sector, relevant regional partners and local, State and Federal governments.

Ability to Successfully Implement the Project: The review panel will evaluate the applicant's ability to successfully implement the project. This evaluation will include the extent to which the applicant (including its sponsoring institution) has successfully implemented past technical assistance projects, especially those involving economic development. The review panel also will evaluate the expertise of project staff, as well as the academic programs and other resources available within the sponsoring institution. See 13 CFR 306.5.

Feasibility of Project Budget: The review panel will evaluate the feasibility of the project budget, including but not limited to the reasonableness and the allowability of project costs.

Cost of the Project to the Federal Government: The review panel will evaluate the cost of the project to the Federal government, taking into account the technical assistance services to be performed by the University Center and how those services are anticipated to spur regional economic development. As provided under “Cost Sharing Requirement” in this request for applications and in Section I.B. of the FFO announcement, EDA will give a preference to those applications that include a cash contribution for the matching share requirement.

Selection Factors: EDA expects to fund the highest ranking applications submitted under this competition solicitation. The Selecting Official will normally follow the recommendations of the review panel; however, the Selecting Official may decide not to make a selection, or he may select an application out of rank order for several reasons, including: (1) A determination that the application better meets the overall objectives of sections 2 and 207 of PWEDA (42 U.S.C. 3121 and 3147); (2) the availability of program funding; (3) the geographic balance in distribution of program funds; (4) program priorities as set forth in the FFO announcement; or (5) the applicant's performance under previous federal financial assistance awards.

The Department of Commerce Pre-Award Notification Requirements for Grants and Cooperative Agreements: The administrative and national policy requirements for all Department of Commerce awards, contained in the Department of Commerce Pre-Award Notification Requirements for Grants and Cooperative Agreements, published in the Federal Register on December 30, 2004 (69 FR 78389), are applicable to this competitive solicitation.

Teleconferences: The Chicago regional office will hold a pre-application teleconference on March 5, 2008 at 10 a.m. (CST). The Philadelphia regional office will hold its pre-application teleconference call on March 12, 2008 at 2 p.m. (EST). These teleconferences will provide general program information and information regarding the preparation of applications for funding under this competitive solicitation. To ensure the integrity of this competition, EDA will not provide substantive information regarding the competition to prospective applicants outside of these scheduled teleconferences.

To ensure that enough incoming lines are available for each caller, the Chicago regional office requires interested parties planning to participate on the teleconference to register no later than 5 p.m. (CST) on February 27, 2008; the Philadelphia regional office requires interested parties planning to participate on the teleconference to register no later than 4 p.m. (EST) on March 7, 2008. To register, please send an email with “Teleconference Registration” in the subject line to the designated contact person in the Chicago or Philadelphia regional office, as provided under FOR FURTHER INFORMATION CONTACT in this request for applications. The telephone number and pass code for each teleconference will be provided upon registration.

Please be advised that the pre-application teleconferences may be audio-taped and the actual recordings or a transcript of the actual recording may be made available online for the benefit of prospective applicants unable to participate. Prospective applicants who choose to participate on the teleconferences are deemed to consent to the taping.

Paperwork Reduction Act: This document contains collection-of-information requirements subject to the Paperwork Reduction Act (PRA). The use of Form ED-900A (Application for Investment Assistance) has been approved by the Office of Management and Budget (OMB) under the control number 0610-0094. Notwithstanding any other provision of law, no person is required to respond to, nor shall any person be subject to a penalty for failure to comply with, a collection of information subject to the requirements of the PRA unless that collection of information displays a currently valid OMB control number.

Executive Order 12866: This notice has been determined to be not significant for purposes of Executive Order 12866.

Executive Order 13132 (Federalism): It has been determined that this notice does not contain policies with Federalism implications as that term is defined in Executive Order 13132.

Administrative Procedure Act/Regulatory Flexibility Act: Prior notice and an opportunity for public comments are not required by the Administrative Procedure Act or any other law for rules concerning grants, benefits, and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis has not been prepared.

Dated: January 28, 2008.
Sandy K. Baruah,
Assistant Secretary of Commerce for Economic Development.

[FR Doc. E8-1836 Filed 1-31-08; 8:45 am]

BILLING CODE 3510-24-P